DEPARTMENT OF TRANSPORTATION

Federal Aviation Administration

[Docket No: FAA-2008-23639]

Deadline for Notification of Intent To Use the Airport Improvement Program (AIP) Sponsor, Cargo, and Nonprimary Entitlement Funds for Fiscal Year 2008

AGENCY: Federal Aviation Administration, DOT.

ACTION: Notice.

SUMMARY: The Federal Aviation Administration (FAA) announces June 1, 2008, as the deadline for each airport sponsor to notify the FAA whether or not it will use its fiscal year 2008 entitlement funds available under Public Law 110-190 to accomplish AIP-eligible projects that the sponsor previously identified through the Airports Capital Improvement Plan (ACIP) process during the preceding year. If a sponsor does not declare their intention regarding the use of 2008 entitlement funds by June 1, 2008, FAA will be unable to take the necessary actions to designate these as “protected” carryover funds and these funds would not be carried over if FAA spending authority from the Airport and Airway Trust Fund is not extended beyond June 30, 2008.

FOR FURTHER INFORMATION CONTACT: Mr. Wayne Heibeck, Deputy Director, Office of Airport Planning and Programming, APP-2, on (202) 267-8775.

SUPPLEMENTARY INFORMATION: Section 47105(f) of title 49, United States Code, provides that the sponsor of each airport to which funds are apportioned shall notify the Secretary by such time and in a form as prescribed by the Secretary, of the sponsor's intent to apply for the funds apportioned to it (entitlements). This notice applies only to those airports that have had entitlement funds apportioned to them, except those nonprimary airports located in designated Block Grant States. Sponsors intending to apply for any of their available entitlement funds, including those unused from prior years, shall submit by June 1, 2008, a written indication to the designated Airports District Office (or Regional Office in regions without Airports District Offices) that they will advertise, bid, and submit an application prior to June 10, 2008, or by the date established by the designated Airport District or Regional Office.

This notice is promulgated to expedite and prioritize the grant-making process. In the past, the FAA has established a deadline of May 1 for an airport sponsor to declare that it will defer use of its entitlement funding. Considering the AIP program has been extended for only 9-months into the middle of a fiscal year, and uncertainty about additional statutory action before the end of the fiscal year, the FAA is establishing June 1 as the deadline for each airport sponsor to notify the FAA whether or not it will use its fiscal year 2008 entitlement funds.

Public Law 110-190, enacted on February 28, 2008, amended section 48103 of title 49, United States Code, to extend the Airport Improvement Program (AIP) for the 9-month period beginning October 1, 2007 and ending on June 30, 2008. This law enables the FAA to use a portion of the AIP obligation authority made available under Public Law 110-161 (“Consolidated Appropriations Act, 2008”). Although the AIP grant authority available for FY2008 does not expire on June 30, 2008, the FAA's expenditure authority from the Airport and Airway Trust Fund will expire on June 30 in the absence of an additional statutory extension. Therefore, to avoid the risk of not being able to carryover funds should an additional extension not be enacted, AIP funds should be obligated in FAA's accounting records on or before June 20. Obligations must be made on or before June 20, rather than June 30 because the FAA's accounting systems will be taken off-line to perform the end of the month closeout shortly after this date.

Sponsors have three options available to them regarding AIP grants during this 9-month period. First, sponsors may elect to make an application for a grant based on entitlements currently available to them. Sponsors that elect to take such a grant must submit grant applications to the FAA no later than June 10, 2008, in order to meet the June 20, 2008, obligation deadline. Second, sponsors may elect to wait until after the June 1, 2008 notification date for protection of carryover entitlements. However, if a sponsor does not declare their intention regarding the use of 2008 entitlement funds by the June 1 deadline, FAA will be unable to take the necessary actions to designate these as “protected” carryover funds and these funds would not be carried over if FAA's Trust Fund expenditure authority is not extended beyond June 30, 2008. Third, sponsors may elect to declare their intention to carryover the entitlements prior to the June 1, 2008 deadline through sending an acceptable written notification of such intention by June 1, 2008. FAA will then issue discretionary grants in an aggregate amount not to exceed the aggregate amount of deferred entitlement funds pursuant to the authority and limitations in section 471 17(f). Airport sponsors may request their unused carryover entitlements that have been deferred after September 30, 2008 as provided in current law.

If a statutory extension beyond June 30th of FAA's authority to make expenditures from the Trust Fund is enacted, and if additional AIP contract authority for fiscal year 2008 is made available, and FAA is therefore able to use the remaining obligation authority under Public Law 110-161 through September 30, 2008, the deadline for each airport sponsor to notify the FAA that it will use the remainder of its entitlement funds will be July 9, 2008. Sponsors intending to apply for any of their available entitlement funds, including those unused from prior years, those previously apportioned pursuant to Public Law 110-160, or those apportioned through a statutory extension for fiscal year 2008 entitlement funds shall submit by July 9, 2008, a written indication to the designated Airports District Office (or Regional Office in regions without Airports District Offices) that they will advertise, bid, and submit an application prior to August 1, 2008, or by the date established by the designated Airport District or Regional Office.

Issued in Washington, DC on March 28, 2008.
Wayne Heibeck
Deputy Director, FAA Office of Airport Planning and Programming.

[FR Doc. E8-6943 Filed 4-3-08; 8:45 am]

BILLING CODE 4910-13-M